DEPARTMENT OF HEALTH AND HUMAN SERVICES

Health Care Financing Administration; Statement of Organization, Functions, and Delegations of Authority

Part F, of the Statement of Organization, Functions, and Delegations of Authority of the Department of Health and Human Services, Health Care Financing Administration (HCFA), 49 FR 34247, dated September 6, 1984, is amended to include the following delegation of authority from the Secretary to the Administrator, HCFA, for carrying out Title XXII of the Public Health Service Act, as amended.

• Section F.30., Delegations of Authority is amended by adding the following paragraph:

vv. The authority vested in the Secretary by Title XXII of the Public Health Service Act, as amended.

This delegation shall be exercised under the Department's policy on issuance of regulations. In addition, I hereby affirm and ratify any actions taken by the Administrator, or other HCFA officials which, in effect, involved the exercise of this authority prior to the effective date of this delegation. This delegation is effective immediately, and may be further redelegated. This delegation of authority supersedes the memorandum from the Secretary to the Assistant Secretary for Health, dated March 2, 1987, entitled “Delegation of Authority for Title XXII of the Public Health Service Act, Public Law 99-272, Section 10003.”

Dated: June 12, 2000.
Donna E. Shalala,
Secretary.

[FR Doc. 00-15549 Filed 6-20-00; 8:45 am]

BILLING CODE 4120-03-M